DEPARTMENT OF ENERGY

Federal Energy Regulatory Commission

[Docket No. RP04-267-000]

Transcontinental Gas Pipe Line Corporation; Notice of Filing

April 30, 2004.

Take notice that on April 27, 2003, Transcontinental Gas Pipe Line Corporation (Transco), tendered for filing with the Federal Energy Regulatory Commission, Second Revised Sheet No. 329 to its FERC Gas Tariff, Third Revised Volume No. 1, with a proposed effective date of May 27, 2004.

Transco states that the purpose of the instant filing is to modify Transco's Policy for Construction of Interconnect Facilities set forth in Section 20 of the General Terms and Conditions of Transco's Tariff.

Transco states that copies of the filing are being mailed to its affected customers and interested state commissions. In accordance with the provisions of Section 154.2(d) of the Commission's Regulations, copies of this filing are available for public inspection, during regular business hours in a convenient form and place at Transco's main offices at 2800 Post Oak Boulevard in Houston, Texas.

Any person desiring to be heard or to protest this filing should file a motion to intervene or protest with the Federal Energy Regulatory Commission, 888 First Street, NE., Washington, DC 20426, in accordance with 385.214 and 385.211 of the Commission's rules and regulations. All such motions or protests must be filed as provided in 154.210 of the Commission's regulations. Protests will be considered by the Commission in determining the appropriate action to be taken, but will not serve to make protestants parties to the proceeding. Any person wishing to become a party must file a motion to intervene. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E4-1040 Filed 5-7-04; 8:45 am]

BILLING CODE 6717-01-P